NUCLEAR REGULATORY COMMISSION

[Docket No. 52-016]

Unistar Nuclear, LLC; Calvert Cliffs Partial Combined License Application; Notice of Intent To Prepare an Environmental Impact Statement and Conduct Scoping Process

UniStar Nuclear, LLC (UniStar), has submitted a partial application for a combined license (COL) for its Calvert Cliffs Nuclear Power Plant (CCNPP) site to build Unit 3, located on approximately 2,057 acres in Calvert County, Maryland, approximately 40 miles southeast of Washington, DC, and 7.5 miles north of Solomons, Maryland, along the western bank of the Chesapeake Bay. Part 1 of the application for the COL was submitted by letter dated July 13, 2007, pursuant to the requirements of Title 10, Part 52, and in accordance with 10 CFR 2.101(a)(5). Subsequent information was submitted on July 16, 2007, August 2, 2007, and October 30, 2007. In addition, the UniStar COL application references dose consequence information in UniStar's December 14, 2007, application for certification of the Evolutionary Power Reactor design. Accordingly, the NRC staff reviewed the design certification application and determined that it contains information sufficient to permit docketing of the environmental report (ER). A notice of receipt and availability of the partial application, which included the ER, was published in the Federal Register on August 15, 2007 (72 FR 45832). A notice of acceptance for docketing of the partial application for the COL was published in the Federal Register on January 31, 2008 (73 FR 5877). The purpose of this notice is to inform the public that the U.S. Nuclear Regulatory Commission (NRC) will be preparing an environmental impact statement (EIS) in support of the review of the COL partial application and to provide the public an opportunity to participate in the environmental scoping process, as defined in 10 CFR 51.29.

In addition, as outlined in 36 CFR 800.8(c), “Coordination with the National Environmental Policy Act (NEPA) of 1969, as amended,” the NRC staff plans to coordinate compliance with Section 106 of the National Historic Preservation Act (NHPA) with steps taken to meet the requirements of NEPA. Pursuant to 36 CFR 800.8(c), the NRC staff intends to use the process and documentation for the preparation of the EIS on the proposed action to comply with section 106 of the NHPA in lieu of the procedures set forth in 36 CFR 800.3 through 800.6.

In accordance with 10 CFR 51.45, 10 CFR 51.50, and 10 CFR 2.101(a)(5), UniStar submitted the ER along with portions of the Final Safety Analysis Report (FSAR) as part 1 of the partial application. The ER was prepared pursuant to 10 CFR Parts 51 and 52 and is available for public inspection at the NRC Public Document Room (PDR), located at One White Flint North, 11555 Rockville Pike (first floor), Rockville, Maryland, or from the Publicly Available Records component of the NRC's Agency-wide Documents Access and Management System (ADAMS). ADAMS is accessible at http://www.nrc.gov/reading-rm/adams.html, which provides access through the NRC's Electronic Reading Room (ERR) link. The accession number in ADAMS for part 1 of the partial application received on July 13, 2007, is ML071980294. The accession numbers in ADAMS for the supplemental information submitted by letters dated July 16, 2007, August 2, 2007, October 30, 2007, and December 14, 2007, are ML072000363, ML072200533, ML072220589, ML073060128, ML073520192, ML073520211, and ML073520221. Persons who do not have access to ADAMS or who encounter problems in accessing the documents located in ADAMS should contact the NRC's PDR Reference staff at 1-800-397-4209 or 301-415-4737, or by sending an e-mail to pdr@nrc.gov. The partial application may also be viewed on the Internet at http://www.nrc.gov/reactors/new-licensing/col/calvert-cliffs.html. In addition, the Calvert Library, Southern Branch located at 20 Appeal Lane, Lusby, Maryland, and Calvert Library, Prince Frederick located at 850 Costley Way, Prince Frederick, Maryland, have agreed to make the ER available for public inspection.

The following key reference documents related to the COL partial application and the NRC staff's review process are available through the NRC's Web site at http://www.nrc.gov:

a. 10 CFR Part 51, Environmental Protection Regulations for Domestic Licensing and Related Regulatory Functions,

b. 10 CFR Part 52, Licenses, Certifications, and Approvals for Nuclear Power Plants,

c. 10 CFR Part 100, Reactor Site Criteria,

d. NUREG-1555, Standard Review Plans for Environmental Reviews for Nuclear Power Plants,

e. NUREG/BR-0298, Brochure on Nuclear Power Plant Licensing Process,

f. Fact Sheet on Nuclear Power Plant Licensing Process,

g. Regulatory Guide 4.2, Preparation of Environmental Reports for Nuclear Power Stations,

h. Regulatory Guide 1.206, Combined License Applications for Nuclear Power Plants, and

i. NRR Office Instruction LIC-203, Procedural Guidance for Preparing Environmental Assessments and Considering Environmental Issues.

The regulations, NUREG-series documents, regulatory guides, and fact sheet can be found under Document Collections in the Electronic Reading Room on the NRC Web page. Finally, Office Instruction LIC-203 can be found in ADAMS in two parts under accession numbers ML011710073 (main text) and ML011780314 (charts and figures).

This notice advises the public that the NRC intends to gather the information necessary to prepare an EIS in support of the review of the partial application for the COL at the CCNPP COL site. Possible alternatives to the proposed action (issuance of the COL at the CCNPP COL site) include no action and consideration of alternative sites. The NRC is required by 10 CFR 51.20(b)(2) to prepare an EIS in connection with the issuance of a COL. This notice is being published in accordance with NEPA and NRC regulations found in 10 CFR Part 51.

The NRC will first conduct a scoping process for the EIS and, as soon as practicable thereafter, will prepare a draft EIS for public comment. Participation in the scoping process by members of the public and local, State, Tribal, and Federal government agencies is encouraged. The scoping process for the EIS will be used to accomplish the following:

a. Define the proposed action which is to be the subject of the EIS;

b. Determine the scope of the EIS and identify the significant issues to be analyzed in depth;

c. Identify and eliminate from detailed study those issues that are peripheral or that are not significant;

d. Identify any environmental assessments and other EISs that are being or will be prepared that are related to, but are not part of the scope of the EIS being considered;

e. Identify other environmental review and consultation requirements related to the proposed action;

f. Identify parties consulting with the NRC under the NHPA, as set forth in 36 CFR 800.8(c)(1)(i);

g. Indicate the relationship between the timing of the preparation of the environmental analyses and the Commission's tentative planning and decision-making schedule;

h. Identify any cooperating agencies and, as appropriate, allocate assignments for preparation and schedules for completing the EIS to the NRC and any cooperating agencies; and

i. Describe how the EIS will be prepared and include any contractor assistance to be used.

The NRC invites the following entities to participate in the scoping process:

a. The applicant, UniStar Nuclear;

b. Any Federal agency that has jurisdiction by law or special expertise with respect to any environmental impact involved or that is authorized to develop and enforce relevant environmental standards;

c. Affected State and local government agencies, including those authorized to develop and enforce relevant environmental standards;

d. Any affected Indian tribe;

e. Any person who requests or has requested an opportunity to participate in the scoping process; and

f. Any person who intends to petition for leave to intervene.

In accordance with 10 CFR 51.26, the scoping process for an EIS may include a public scoping meeting to help identify significant issues related to a proposed activity and to determine the scope of issues to be addressed in an EIS. The NRC will hold two identical public scoping meetings for the EIS regarding the CCNPP COL partial application. The scoping meetings are scheduled for Wednesday, March 19, 2008 at the Holiday Inn Select, 155 Holiday Drive, Solomons, Maryland. The first meeting will convene at 1 p.m. and will continue until approximately 4 p.m. The second meeting will convene at 7 p.m. and will continue until approximately 10 p.m. The meetings will be transcribed and will include: (1) An overview by the NRC staff of the NEPA environmental review process, the proposed scope of the EIS, the proposed review schedule, and (2) the opportunity for interested government agencies, organizations, and individuals to submit comments or suggestions on the environmental issues or the proposed scope of the EIS. Additionally, the NRC staff will host informal discussions one hour before the start of the two meetings at the Holiday Inn Select. No formal comments on the proposed scope of the EIS will be accepted during the informal discussions. To be considered, comments must be provided either at the transcribed public meeting or in writing, as discussed below. Persons may register to attend or present oral comments at the meeting on the scope of the NEPA review by contacting Mr. Thomas L. Fredrichs at 1-800-368-5642, extension 5971, or by e-mail to the NRC at CalvertCliffs.COLAEIS@nrc.gov, no later than March 11, 2008.

Members of the public may also register to speak at the meeting within 15 minutes of the start of the meeting. Individual oral comments may be limited by the time available, depending on the number of persons who register. Members of the public who have not registered may also have an opportunity to speak, if time permits. Public comments will be considered in the scoping process for the EIS. Mr. Fredrichs will need to be contacted no later than March 11, 2008, if special equipment or accommodations are needed to attend or present information at the public meeting, so that the NRC staff can determine whether the request can be accommodated.

Members of the public may send written comments on the environmental scope of the CCNPP COL review to the Chief, Rules and Directives Branch, Division of Administrative Services, Office of Administration, Mailstop T-6D59, U.S. Nuclear Regulatory Commission, Washington, DC 20555-0001 and should cite the publication date and page number of this Federal Register notice. Comments may also be delivered to Room T-6D59, Two White Flint North, 11545 Rockville Pike, Rockville, Maryland from 7:30 a.m. to 4:15 p.m., during Federal workdays. To be considered in the scoping process, comments should be received by the end of the scoping comment period, which is April 14, 2008. Written comments should be postmarked by April 14, 2008. Electronic comments may be sent via the Internet to the NRC at CalvertCliffsCOLAEIS@nrc.gov. Submissions should be sent no later than April 14, 2008, to be considered in the scoping process. Comments will be available in the meeting summary report electronically and accessible through the NRC's ERR link at http://www.nrc.gov/reading-rm/adams.html.

Participation in the scoping process for the EIS does not entitle participants to become parties to the proceeding to which the EIS relates. Notice of a hearing regarding the complete application for a COL will be the subject of a future Federal Register notice if UniStar submits the remaining portion of the Calvert Cliffs COL application and the NRC staff finds it acceptable for docketing.

At the conclusion of the scoping process, the NRC staff will prepare a concise summary of the determination and conclusions reached, including the significant issues identified, and will send a copy of the summary to each participant in the scoping process. The summary will also be available for inspection through the NRC's ERR link. The staff will then prepare and issue for comment the draft EIS, which will be the subject of separate notices and a separate public meeting. A copy of the draft EIS will be available for public inspection at the above-mentioned address, and one copy per request will be provided free of charge. After receipt and consideration of the comments, the NRC staff will prepare a final EIS, (which will also be available for public inspection).

Information about the proposed EIS and the scoping process may be obtained from Mr. Thomas L. Fredrichs, Senior Environmental Project Manager at (301) 415-5971.

Dated at Rockville, Maryland, this 8th day of February 2008.
For the Nuclear Regulatory Commission.
R. W. Borchardt,
Director, Office of New Reactors.

[FR Doc. E8-2775 Filed 2-13-08; 8:45 am]

BILLING CODE 7590-01-P